MILLENNIUM CHALLENGE CORPORATION

[MCC FR 10-10]

Notice of Quarterly Report (April 1, 2010-June 30, 2010)

AGENCY: Millennium Challenge Corporation.

SUMMARY: The Millennium Challenge Corporation (MCC) is reporting for the quarter April 1, 2010 through June 30, 2010, on assistance provided under section 605 of the Millennium Challenge Act of 2003 (22 U.S.C. 7701 et seq.), as amended (the Act), and on transfers or allocations of funds to other federal agencies under section 619(b) of the Act. The following report will be made available to the public by publication in the Federal Register and on the Internet Web site of the MCC (www.mcc.gov) in accordance with section 612(b) of the Act.

Dated: September 9, 2010.
T. Charles Cooper,
Vice President, Congressional and Public Affairs, Millennium Challenge Corporation.

Assistance Provided Under Section 605
Projects | Obligated | Objectives | Cumulative disbursements | Measures
Country: Madagascar Year: 2010 Quarter 3 Total Obligation: $87,998,166
Entity to which the assistance is provided: MCA Madagascar Total Quarterly Disbursement: $0
Land Tenure Project | $30,123,098 | Increase Land Titling and Security | $29,303,833 | Area secured with land certificates or titles in the Zones.
|  |  |  | Legal and regulatory reforms adopted.
|  |  |  | Number of land documents inventoried in the Zones and Antananarivo.
|  |  |  | Number of land documents restored in the Zones and Antananarivo.
|  |  |  | Number of land documents digitized in the Zones and Antananarivo.
|  |  |  | Average time for Land Services Offices to issue a duplicate copy of a title.
|  |  |  | Average cost to a user to obtain a duplicate copy of a title from the Land Services Offices.
|  |  |  | Number of land certificates delivered in the Zones during the period.
|  |  |  | Number of new guichets fonciers operating in the Zones.
|  |  |  | The 256 Plan Local d'Occupation Foncier—Local Plan of Land Occupation (PLOFs) are completed.
Financial Sector Reform Project | 25,937,781 | Increase Competition in the Financial Sector | 23,535,170 | Volume of funds processed annually by the national payment system.
|  |  |  | Number of accountants and financial experts registered to become CPA.
|  |  |  | Number of Central Bank branches capable of accepting auction tenders.
|  |  |  | Outstanding value of savings accounts from CEM in the Zones.
|  |  |  | Number of MFIs participating in the Refinancing and Guarantee funds.
|  |  |  | Maximum check clearing delay.
|  |  |  | Network equipment and integrator.
|  |  |  | Real time gross settlement system (RTGS).
|  |  |  | Telecommunication facilities.
|  |  |  | Retail payment clearing system.
|  |  |  | Number of CEM branches built in the Zones.
|  |  |  | Number of savings accounts from CEM in the Zones.
|  |  |  | Percent of Micro-Finance Institution (MFI) loans recorded in the Central Bank database.
Agricultural Business Investment Project | 13,687,196 | Improve Agricultural Projection Technologies and Market Capacity in Rural Areas | 13,581,751 | Number of farmers receiving technical assistance. Number of marketing contracts of ABC clients. Number of farmers employing technical assistance. Value of refinancing loans and guarantees issued to participating MFIs (as a measure of value of agricultural and rural loans).
|  |  |  | Number of Mnistère de l'Agriculture, de l'Elevage et de la Pêche—Ministry of Agriculture, Livestock, and Fishing (MAEP) agents trained in marketing and investment promotion.
|  |  |  | Number of people receiving information from Agricultural Business Center (ABCs) on business opportunities.
Program Administration* and Control, Monitoring and Evaluation | 18,250,091 |  | 17,577,502
Pending subsequent reports** |  |  | 0
* Program administration funds are used to pay items such as salaries, rent, and the cost of office equipment.
** These amounts represent disbursements made that will be allocated to individual projects in the subsequent quarter(s) and reported as such in subsequent quarterly report(s)

Projects | Obligated | Objectives | Cumulative disbursements | Measures
Country: Honduras Year: 2010 Quarter 3 Total Obligation: $205,000,000
Entity to which the assistance is provided: MCA Honduras Total Quarterly Disbursement: $20,070,438
Rural Development Project | 67,762,685 | Increase the productivity and business skills of farmers who operate small and medium-size farms and their employees | 57,468,393 | Number of program farmers harvesting high-value horticulture crops. Number of hectares harvesting high-value horticulture crops. Number of business plans prepared by program farmers with assistance from the implementing entity.
|  |  |  | Total value of net sales.
|  |  |  | Total number of recruited farmers receiving technical assistance.
|  |  |  | Value of loans disbursed to farmers, agribusiness, and other producers and vendors in the horticulture industry, including Program Farmers, cumulative to date, Trust Fund Resources.
|  |  |  | Number of loans disbursed (disaggregated by trust fund, leveraged from trust fund, and institutions receiving technical assistance from ACDI-VOCA).
|  |  |  | Number of hectares under irrigation.
|  |  |  | Number of farmers connected to the community irrigation system.
Transportation Project | 119,887,240 | Reduce transportation costs between targeted production centers and national, regional and global markets | 102,606,515 | Freight shipment cost from Tegucigalpa to Puerto Cortes. Average annual daily traffic volume—CA-5. International roughness index (IRI)—CA-5. Kilometers of road upgraded—CA-5.
|  |  |  | Percent of contracted road works disbursed—CA-5.
|  |  |  | Average annual daily traffic volume—secondary roads.
|  |  |  | International roughness index (IRI)—secondary roads.
|  |  |  | Kilometers of road upgraded—secondary roads.
|  |  |  | Average annual daily traffic volume—rural roads.
|  |  |  | Average speed—Cost per journey (rural roads).
|  |  |  | Kilometers of road upgraded—rural roads.
|  |  |  | Percent disbursed for contracted studies.
|  |  |  | Value of signed contracts for feasibility, design, supervision and program mgmt contracts.
|  |  |  | Kilometers (km) of roads under design.
|  |  |  | Number of Construction works and supervision contracts signed.
|  |  |  | Kilometers (km) of roads under works contracts.
Program Administration* and Control, Monitoring and Evaluation | 17,350,075 |  | 10,825,354
Pending subsequent reports** |  |  | 1,521,767

Projects | Obligated | Objectives | Cumulative disbursements | Measures
Country: Cape Verde Year: 2010 Quarter 3 Total Obligation: $110,078,488
Entity to which the assistance is provided: MCA Cape Verde Total Quarterly Disbursement: $8,145,814
Watershed and Agricultural Support Project | 12,031,549 | Increase agricultural production in three targeted watershed areas on three islands | 9,635,989 | Productivity: Horticulture, Paul watershed. Productivity: Horticulture, Faja watershed. Productivity: Horticulture, Mosteiros watershed. Number of farmers adopting drip irrigation: All intervention watersheds (Paul, Faja and Mosteiros) (incremental).
|  |  |  | Area irrigated with drip irrigation: All intervention watersheds (Paul, Faja and Mosteiros) (incremental).
|  |  |  | Irrigation Works: Percent contracted works disbursed. All intervention watersheds (Paul, Faja and Mosteiros) (incremental).
|  |  |  | Number of reservoirs constructed in all intervention watersheds (Paul, Faja and Mosteiros) (incremental).
|  |  |  | Number of farmers that have completed training in at least 3 of 5 core agricultural disciplines: All intervention watersheds (Paul, Faja and Mosteiros) (incremental).
Infrastructure Improvement Project | 82,630,208 | Increase integration of the internal market and reduce transportation costs | 62,000,390 | Travel time ratio: percentage of beneficiary population further than 30 minutes from nearest market. Kilometers of roads rehabilitated.
|  |  |  | Percent of contracted Santiago Roads works disbursed (cumulative).
|  |  |  | Percent of contracted Santo Antao Bridge works disbursed (cumulative).
|  |  |  | Port of Praia: percent of contracted port works disbursed (cumulative).
|  |  |  | Cargo village: percent of contracted works disbursed (cumulative).
|  |  |  | Quay 2 improvements: percent of contracted works disbursed (cumulative).
|  |  |  | Access road: percent of contracted works disbursed (cumulative).
Private Sector Development Project | 1,931,223 | Spur private sector development on all islands through increased investment in the priority sectors and through financial sector reform | 1,406,654 | MFI portfolio at risk, adjusted (level).
Program Administration* and Control, Monitoring and Evaluation | 13,485,508 |  | 11,095,940
Pending subsequent reports** |  |  | 480

Projects | Obligated | Objectives | Cumulative disbursements | Measures
Country: Nicaragua Year: 2010 Quarter 3 Total Obligation: $113,599,751
Entity to which the assistance is provided: MCA Nicaragua Total Quarterly Disbursement: $4,666,842
Property Regularization Project | 7,205,205 | Increase Investment by strengthening property rights | 5,386,594 | Automated database of registry and cadastre installed in the 10 municipalities of Leon. Value of land, urban.
|  |  |  | Value of land, rural.
|  |  |  | Time to conduct a land transaction.
|  |  |  | Number of additional parcels with a registered title, urban.
|  |  |  | Number of additional parcels with a registered title, rural.
|  |  |  | Area covered by cadastral mapping.
|  |  |  | Cost to conduct a land transaction.
Transportation Project | 57,999,999 | Reduce transportation costs between Leon and Chinandega and national, regional and global markets | 53,642,992 | Annual Average daily traffic volume: N1 Section R1. Annual Average daily traffic volume: N1 Section R2. Annual Average daily traffic volume: Port Sandino (S13).
|  |  |  | Annual Average daily traffic volume: Villanueva-Guasaule Annual.
|  |  |  | Average daily traffic volume: Somotillo-Cinco Pinos (S1).
|  |  |  | Annual average daily traffic volume: León-Poneloya-Las Peñitas.
|  |  |  | International Roughness Index: N-I Section R1.
|  |  |  | International Roughness Index: N-I Section R2.
|  |  |  | International Roughness Index: Port Sandino (S13).
|  |  |  | International roughness index: Villanueva-Guasaule.
|  |  |  | International roughness index: Somotillo-Cinco Pinos.
|  |  |  | International roughness index: León-Poneloya-Las Peñitas.
|  |  |  | Kilometers of NI upgraded: R1 and R2 and S13.
|  |  |  | Kilometers of NI upgraded: Villanueva-Guasaule.
|  |  |  | Kilometers of S1 road upgraded.
|  |  |  | Kilometers of S9 road upgraded.
Rural Development Project | 32,897,500 | Increase the value added of farms and enterprises in the region | 25,828,413 | Number of beneficiaries with business plans. Numbers of manzanas (1 Manzana = 1.7 hectares), by sector, harvesting higher-value crops.
|  |  |  | Number of beneficiaries with business plans prepared with assistance of Rural Business Development Project.
|  |  |  | Number of beneficiaries implementing Forestry business plans under Improvement of Water Supplies Activity.
|  |  |  | Number of Manzanas reforested.
|  |  |  | Number of Manzanas with trees planted.
Program Administration*, Due Diligence, Monitoring and Evaluation | 15,497,047 |  | 11,980,280
Pending subsequent reports** |  |  | 1,509,801

Projects | Obligated | Objectives | Cumulative disbursements | Measures
Country: Georgia Year: 2010 Quarter 3 Total Obligation: $395,300,000
Entity to which the assistance is provided: MCA Georgia Total Quarterly Disbursement: $25,160,477
Regional Infrastructure Rehabilitation Project | 315,600,000 | Key Regional Infrastructure Rehabilitated | 163,853,797 | Household savings from Infrastructure Rehabilitation Activities.
|  |  |  | Savings in vehicle operating costs (VOC).
|  |  |  | International roughness index (IRI).
|  |  |  | Annual average daily traffic (AADT).
|  |  |  | Travel Time.
|  |  |  | Road paved/completed.
|  |  |  | Construction Works completed (Contract 1).
|  |  |  | Construction Works completed (Contract 2).
|  |  |  | Signed contracts for feasibility and/or design studies.
|  |  |  | Percent of contracted studies disbursed.
|  |  |  | Kilometers of roads under design.
|  |  |  | Signed contracts for road works.
|  |  |  | Kilometers of roads under works contracts.
|  |  |  | Sites rehabilitated (phases I, II, III)—pipeline.
|  |  |  | Construction works completed (phase II)—pipeline.
|  |  |  | Savings in household expenditures for all RID subprojects.
|  |  |  | Population Served by all RID subprojects.
|  |  |  | RID Subprojects completed.
|  |  |  | Value of RID Grant Agreements signed.
|  |  |  | Value of project works and goods contracts signed.
|  |  |  | RID subprojects with works initiated.
Regional Enterprise Development Project | 47,350,000 | Enterprises in Regions Developed | 39,893,670 | Jobs Created by Agribusiness Development Activity (ADA) and by Georgia Regional Development Fund (GRDF).
|  |  |  | Household net income—ADA and GRDF.
|  |  |  | Jobs created—ADA.
|  |  |  | Firm income—ADA.
|  |  |  | Household net income—ADA.
|  |  |  | Beneficiaries (direct and indirect)—ADA.
|  |  |  | Grant agreements signed—ADA.
|  |  |  | Increase in gross revenues of portfolio companies (PC).
|  |  |  | Increase in portfolio company employees.
|  |  |  | Increase in wages paid to the portfolio company employees.
|  |  |  | Portfolio companies (PC).
|  |  |  | Funds disbursed to the portfolio companies.
Program Administration*, Due Diligence, Monitoring and Evaluation | 32,350,000 |  | 18,641,284
Pending subsequent reports** |  |  | 25,160,477
November 2008, MCC and the Georgian government signed a Compact amendment making up to $100 million of additional funds available to the Millennium Challenge Georgia Fund. These funds will be used to complete works in the Roads, Regional Infrastructure Development, and Energy Rehabilitation Projects contemplated by the original Compact. The amendment was ratified by the Georgian parliament and entered into force on January 30, 2009.

Projects | Obligated | Objectives | Cumulative disbursements | Measures
Country: Vanuatu Year: 2010 Quarter 3 Total Obligation: $65,690,000
Entity to which the assistance is provided: MCA Vanuatu Total Quarterly Disbursement: $7,281,831
Transportation Infrastructure Project | 60,162,579 | Facilitate transportation to increase tourism and business development | 50,820,986 | Traffic volume (average annual daily traffic)—Efate: Ring Road. Traffic Volume (average annual daily traffic)—Santo: East Coast Road. Kilometers of road upgraded—Efate: Ring Road.
|  |  |  | Kilometers of roads upgraded—Santo: East Coast Road.
|  |  |  | Percent of contracted roads works disbursed (USD disbursed): Total (Cumulative).
Program Administration*, Due Diligence, Monitoring and Evaluation | 5,527,421 |  | 3,323,066
Pending subsequent reports** |  |  | 1,427,754

Projects | Obligated | Objectives | Cumulative disbursements | Measures
Country: Armenia Year: 2010 Quarter 3 Total Obligation: $235,650,000
Entity to which the assistance is provided: MCA Armenia Total Quarterly Disbursement: $13,029,733
Irrigated Agriculture Project (Agriculture and Water) | 152,709,208 | Increase agricultural productivity Improve and Quality of Irrigation | 57,588,723 | Training/technical assistance provided for On-Farm Water Management. Training/technical assistance provided for Post-Harvest Processing. Loans Provided.
|  |  |  | Percent of contracted works disbursed.
|  |  |  | Value of signed contracts for irrigation works.
|  |  |  | Number of farmers using better on-farm water management.
|  |  |  | Number of enterprises using improved techniques.
|  |  |  | Value of irrigation feasibility and/or detailed design contracts signed.
|  |  |  | Additional Land irrigated under project.
|  |  |  | Percent of contracted irrigation feasibility and/or design studies disbursed.
Rural Road Rehabilitation Project | 67,100,000 | Better access to economic and social infrastructure | 7,870,945 | Average annual daily traffic on Pilot Roads. International roughness index for Pilot Roads. Road Sections Rehabilitated—Pilot Roads.
|  |  |  | Pilot Roads: Percent of Works Completed.
Program Administration*, Due Diligence, Monitoring and Evaluation | 15,840,792 |  | 9,572,123
Pending subsequent reports** |  |  | 1,094,394

Projects | Obligated | Objectives | Cumulative disbursements | Measures
Country: Benin Year: 2010 Quarter 3 Total Obligation: $305,761,550
Entity to which the assistance is provided: MCA Benin Total Quarterly Disbursement: $21,720,603
Access to Financial Services Project | 19,650,000 | Expand Access to Financial Services | 4,203,641 | Volume of credits granted by the Micro-Finance Institutions (MFI).
|  |  |  | Volume of saving collected by the Micro-Finance Institutions.
|  |  |  | Average portfolio at risk >90 days of microfinance institutions at the national level.
|  |  |  | Operational self-sufficiency of MFIs at the national level.
|  |  |  | Number of institutions receiving grants through the Facility.
|  |  |  | Number of MFIs inspected by CSSFD.
Access to Justice Project | 34,270,000 | Improved Ability of Justice System to Enforce Contracts and Reconcile Claims | 3,256,735 | Average time to enforce a contract. Percent of firms reporting confidence in the judicial system. Passage of new legal codes.
|  |  |  | Average time required for Tribunaux de premiere instance—arbitration centers and courts of first instance (TPI) to reach a final decision on a case.
|  |  |  | Average time required for Court of Appeals to reach a final decision on a case.
|  |  |  | Percent of cases resolved in TPI per year.
|  |  |  | Percent of cases resolved in Court of Appeals per year.
|  |  |  | Number of Courthouses completed.
|  |  |  | Average time required to register a business (société).
|  |  |  | Average time required to register a business (sole proprietorship).
Access to Land Project | 35,645,826 | Strengthen property rights and increase investment in rural and urban land | 15,439,332 | Total value of investment in targeted urban land parcels. Total value of investment in targeted rural land parcels.
|  |  |  | Average cost required to convert occupancy permit to land title through systematic process.
|  |  |  | Share of respondents perceiving land security in the PH-TF or PFR areas.
|  |  |  | Number of preparatory studies completed.
|  |  |  | Number of Legal and Regulatory Reforms Adopted.
|  |  |  | Amount of Equipment Purchased.
|  |  |  | Number of new land titles obtained by transformation of occupancy permit.
|  |  |  | Number of land certificates issued within MCA- Benin implementation.
|  |  |  | Number of PFRs established with MCA Benin implementation.
|  |  |  | Number of permanent stations installed.
|  |  |  | Number of stakeholders Trained.
|  |  |  | Number of communes with new cadastres.
|  |  |  | Number of operational land market information systems.
Access to Markets Project | 170,259,549 | Improve Access to Markets through Improvements to the Port of Cotonou | 44,448,945 | Volume of merchandise traffic through the Port Autonome de Cotonou. Bulk ship carriers waiting times at the port. Port design-build contract awarded. Port crime levels (number of thefts).
|  |  |  | Average time to clear customs.
|  |  |  | Port meets—international port security standards (ISPS).
Program Administration*, Due Diligence, Monitoring and Evaluation | 45,936,175 |  | 24,737,283
Pending subsequent reports** |  |  | 283,062

Projects | Obligated | Objectives | Cumulative disbursements | Measures
Country: Ghana Year: 2010 Quarter 3 Total Obligation: $537,863,123
Entity to which the assistance is provided: MCA Ghana Total Quarterly Disbursement: $42,061,572
Agriculture Project | 211,750,193 | Enhance Profitability of cultivation, services to agriculture and product handling in support of the expansion of commercial agriculture among groups of smallholder farms | 88,344,318 | Number of farmers trained in Commercial Agriculture. Number of agribusinesses assisted. Number of preparatory land studies completed. Legal and Regulatory land reforms adopted. Number of landholders reached by public outreach efforts. Number of hectares under production. Number of personnel trained. Number of buildings rehabilitated/constructed.
|  |  |  | Value of equipment purchased.
|  |  |  | Feeder Roads International Roughness Index.
|  |  |  | Feeder Roads Annualized Average Daily Traffic.
|  |  |  | Value of signed contracts for feasibility and/or design studies of Feeder Roads.
|  |  |  | Percent of contracted design/feasibility studies completed for Feeder Roads.
|  |  |  | Value of signed works contracts for Feeder Roads.
|  |  |  | Percent of contracted Feeder Road works disbursed.
|  |  |  | Value of loans disbursed to clients from agriculture loan fund.
|  |  |  | Value of signed contracts for feasibility and/or design studies (irrigation).
|  |  |  | Percent of contracted (design/feasibility) studies complete (irrigation).
|  |  |  | Value of signed contracts for irrigation works (irrigation).
|  |  |  | Rural hectares mapped.
|  |  |  | Percent of contracted irrigation works disbursed.
|  |  |  | Percent of people aware of their land rights in Pilot Land Registration Areas.
|  |  |  | Total number of parcels surveyed in the Pilot Land Registration Areas (PLRAs).
|  |  |  | Volume of products passing through post-harvest treatment.
Rural Development Project | 73,436,385 | Strengthen the rural institutions that provide services complementary to, and supportive of, agricultural and agriculture business development | 19,912,312 | Number of students enrolled in schools affected by Education Facilities Sub-Activity. Number of schools rehabilitated. Number of basic school blocks constructed to Ministry of Education (MOE) construction standards. Distance to collect water. Time to collect water. Incidence of guinea worm.
|  |  |  | Average number of days lost due to guinea worm.
|  |  |  | Number of people affected by Water and Sanitation Facilities Sub-Activity.
|  |  |  | Number of stand-alone boreholes/wells/nonconventional water systems constructed/rehabilitated.
|  |  |  | Number of small-town water systems designed and due diligence completed for construction.
|  |  |  | Number of pipe extension projects designed and due diligence completed for construction.
|  |  |  | Number of agricultural processing plants in target districts with electricity due to Rural Electrification Sub-Activity.
Transportation Project | 209,766,616 | Reduce the transportation costs affecting agriculture commerce at sub-regional levels | 54,707,517 | Trunk Roads International roughness index. N1 International Roughness Index. N1 Annualized Average Daily Traffic. N1 Kilometers of road upgraded.
|  |  |  | Value of signed contracts for feasibility and/or design studies of the N1.
|  |  |  | Percent of contracted design/feasibility studies completed of the N1.
|  |  |  | Value of signed contracts for road works N1, Lot 1.
|  |  |  | Value of signed contracts for road works N1, Lot 2.
|  |  |  | Trunk Roads Annualized Average Daily Traffic.
|  |  |  | Trunk Roads Kilometers of roads completed.
|  |  |  | Percent of contracted design/feasibility studies completed of Trunk Roads.
|  |  |  | Percent of contracted Trunk Road works disbursed.
|  |  |  | Ferry Activity: annualized average daily traffic vehicles.
|  |  |  | Ferry Activity: annual average daily traffic (passengers).
|  |  |  | Landing stages rehabilitated.
|  |  |  | Ferry terminal upgraded.
|  |  |  | Rehabilitation of Akosombo Floating Dock completed.
|  |  |  | Rehabilitation of landing stages completed.
|  |  |  | Percent of contracted road works disbursed: N1, Lot 2.
|  |  |  | Percent of contracted road works disbursed: N1, Lot 2.
|  |  |  | Percent of contracted work disbursed: ferry and floating dock.
|  |  |  | Percent of contracted work disbursed: landings and terminals.
|  |  |  | Value of signed contracts for feasibility and/or design studies of Trunk Roads.
|  |  |  | Value of signed contracts for Trunk Roads.
Program Administration*, Due Diligence, Monitoring and Evaluation | 42,909,929 |  | 24,009,830
Pending subsequent reports** |  |  | 218,946

Projects | Obligated | Objectives | Cumulative disbursements | Measures
Country: El Salvador Year: 2010 Quarter 3 Total Obligation: $460,940,000
Entity to which the assistance is provided: MCA El Salvador Total Quarterly Disbursement: $30,180,141
Human Development Project | 101,753,001 | Increase human and physical capital of residents of the Northern Zone to take advantage of employment and business opportunities | 21,017,837 | Employment rate of graduates of middle technical schools. Graduation rates of middle technical schools. Middle technical schools remodeled and equipped. Scholarships granted to students of middle technical schools. Students of non-formal training.
|  |  |  | Cost of water.
|  |  |  | Time collecting water.
|  |  |  | Households benefiting with water solutions built.
|  |  |  | Potable water and basic sanitation systems with construction contracts signed.
|  |  |  | Cost of electricity.
|  |  |  | Households benefiting with a connection to the electricity network.
|  |  |  | Household benefiting with the installation of isolated solar systems.
|  |  |  | Kilometers of new electrical lines with construction contracts signed.
|  |  |  | Population benefiting from strategic infrastructure.
Productive Development Project | 71,824,000 | Increase production and employment in the Northern Zone | 26,483,228 | Number of hectares under production with MCC support. Number of beneficiaries of technical assistance and training—Agriculture.
|  |  |  | Number of beneficiaries of technical assistance and training—Agribusiness.
|  |  |  | Value of Agricultural Loans to Farmers/Agribusiness.
Connectivity Project | 246,122,001 | Reduce travel cost and time within the Northern Zone, with the rest of the country, and within the region | 60,724,725 | Average annual daily traffic. International roughness index. Kilometers of roads rehabilitated. Kilometers of roads with Construction Initiated.
Program Administration* and Control, Monitoring and Evaluation | 41,240,998 |  | 14,233,352
Pending Subsequent Report** |  |  | 30,180,141

Projects | Obligated | Objectives | Cumulative disbursements | Measures
Country: Mali Year: 2010 Quarter 3 Total Obligation: $451,611,164
Entity to which the assistance is provided: MCA Mali Total Quarterly Disbursement: $27,750,705
Bamako Senou Airport Improvement Project |  |  |  | Employment at airport. Signature of design contract.
|  |  |  | Average number of weekly flights (arrivals).
|  |  |  | Passenger traffic (annual average).
|  |  |  | Percent works complete.
|  |  |  | Time required for passenger processing at departures and arrivals.
|  |  |  | Percent works complete.
|  |  |  | Percent of airport management and maintenance plan implemented.
|  |  |  | Airport meets Federal Aviation Administration (FAA) and International Civil Aviation Organization (ICAO) security standards.
|  |  |  | Technical assistance delivered to project.
Alatona Irrigation Project | 234,884,675 | Increase the agricultural production and productivity in the Alatona zone of the ON | 46,189,523 | Main season rice yields. International roughness index (IRI) on the Niono-Goma Coura Route. Average daily vehicle count.
|  |  |  | Percentage works completed on Niono-Goma Coura road.
|  |  |  | Number of hectares of land irrigated in the Alatona Canal.
|  |  |  | Irrigation system efficiency on Alatona Canal during the rainy season and the dry season.
|  |  |  | Completion rate of work on the construction of the main system (B03).
|  |  |  | Percentage of contracted irrigation construction works disbursed.
|  |  |  | Number of titles registered in the land registration office of the Alatona zone.
|  |  |  | Number of market gardens allocated in Alatona zones (for PAPs) (market garden parcels allotted to PAP women).
|  |  |  | Decree transferring legal control of the project impact area is passed.
|  |  |  | Contractor implementing the “Mapping of Agricultural and Communal Land Parcels” contract is mobilized.
|  |  |  | Net school enrollment rate (in Alatona zone).
|  |  |  | Percent of Alatona population with access to drinking water.
|  |  |  | Number of schools available in Alatona.
|  |  |  | Number of health centers available in Alatona.
|  |  |  | Number of affected people who have been compensated.
|  |  |  | Resettlement Census verified.
|  |  |  | Adoption of Rate of Extension Techniques.
|  |  |  | Area planted with rice during the rainy season.
|  |  |  | Area planted with shallots during dry season.
|  |  |  | Number of farmers trained.
|  |  |  | Water management system design and capacity building strategy implemented.
|  |  |  | Amount of credit extended to Alatona farmers.
|  |  |  | Number of farmers accessing grant assistance for first loan from financial institutions.
|  |  |  | Financial institution partners identified (report on assessment of the financial institutions in the Office du Niger—Office of Niger zone (ON zone).
|  |  |  | Loan Portfolio quality of Alatona MFIs: portfolio at risk.
Program Administration* and Control, Monitoring and Evaluation | 38,005,000 |  | 20,385,241
Pending Subsequent Report** |  |  | 9

Projects | Obligated | Objectives | Cumulative disbursements | Measures
Country: Mongolia Year: 2010 Quarter 3 Total Obligation: $284,902,443
Entity to which the assistance is provided: MCA Mongolia Total Quarterly Disbursement: $2,169,773
Property Rights Project | 27,201,061 | Increase security and capitalization of land assets held by lower-income Mongolians, and increased peri-urban herder productivity and incomes | 1,628,930 | Number of studies completed. Legal and regulatory reforms adopted. Number of landholders reached by public outreach efforts. Training to Leaseholders—Intensive and Semi-Intensive Farming. Number of Buildings rehabilitated/constructed.
|  |  |  | Value of equipment purchased.
|  |  |  | Rural hectares Mapped.
|  |  |  | Urban Parcels Mapped.
|  |  |  | Leaseholds Awarded.
|  |  |  | Hashaa Plots Directly Registered by the Property Rights Project.
Vocational Education Project | 47,355,638 | Increase employment and income among unemployed and underemployed Mongolians | 2,255,071 | Rate of employment of TVET Graduates. Students completing newly designed long-term programs. Percent of active teachers receiving certification training.
|  |  |  | Technical and vocational education and training (TVET) legislation passed.
Health Project | 38,974,817 | Increase the adoption of behaviors that reduce non-communicable diseases (NCDIs) among target populations and improved medical treatment and control of NCDIs | 2,591,403 | Diabetes and hypertension controlled. Percentage of cancer cases diagnosed in early stages. Road and traffic safety activity finalized and key interventions developed.
Program Administration* and Control, Monitoring and Evaluation | 44,294,082 |  | 8,509,865
Pending subsequent reports** |  |  | 43,201
In late 2009, the MCC's Board of Directors approved the allocation of a portion of the funds originally designated for the rail project to the expansion of the health, vocational education and property right projects from the rail project, and the remaining portion to the addition of a road project.

Projects | Obligated | Objectives | Cumulative disbursements | Measures
Country: Mozambique Year: 2010 Quarter 3 Total Obligation: $503,444,341
Entity to which the assistance is provided: MCA Mozambique Total Quarterly Disbursement: $6,505,733
Water Supply and Sanitation Project | 203,585,393 | Increase access to reliable and quality water and sanitation facilities | 4,836,403 | Time to get to non-private water source. Percent of urban population with improved water sources.
|  |  |  | Percent of urban population with improved sanitation facilities.
|  |  |  | Percent of rural population with access to improved water sources.
|  |  |  | Number of private household water connections in urban areas.
|  |  |  | Number of rural water points constructed.
|  |  |  | Number of standpipes in urban areas.
|  |  |  | Final detailed design for 5 towns submitted.
|  |  |  | Final detailed design for 3 cities submitted.
Road Rehabilitation Project | 176,307,480 | Increase access to productive resources and markets | 2,639,508 | Kilometers of road rehabilitated. Percent of Namialo-Rio Lúrio Road-Metoro feasibility, design, and supervision contract disbursed.
|  |  |  | Percent of Rio Ligonha-Nampula feasibility, design, and supervision contract disbursed.
|  |  |  | Percent of Chimuara-Nicoadala feasibility, design, and supervision contract disbursed.
|  |  |  | Percent of Namialo-Rio Lúrio Road construction contract disbursed.
|  |  |  | Percent of Rio Lúrio-Metoro Road construction contract disbursed.
|  |  |  | Percent of Rio Ligonha-Nampula Road construction contract disbursed.
|  |  |  | Percent of Chimuara-Nicoadala Road construction contract disbursed.
|  |  |  | Average annual daily traffic volume.
|  |  |  | Average annual daily traffic volume.
|  |  |  | Average annual daily traffic volume.
|  |  |  | Average annual daily traffic volume.
|  |  |  | Change in International Roughness Index (IRI)—on Namialo-Rio Lúrio Road.
|  |  |  | Change in International Roughness Index (IRI)—on Rio Ligonha-Nampula Road.
|  |  |  | Change in International Roughness Index (IRI)—on Rio Lúrio-Metoro Road.
|  |  |  | Change in International Roughness Index (IRI)—on Chimuara-Nicoadala Road.
Land Tenure Project | 39,061,959 | Establish efficient, secure land access for households and investors | 4,657,219 | Total number of officials and residents reached with land strategy and policy awareness and outreach messages. Time to get land usage rights (DUAT), urban.
|  |  |  | Time to get land usage rights (DUAT), rural.
|  |  |  | Number of buildings rehabilitated or built.
|  |  |  | Total value of procured equipment and materials.
|  |  |  | Number of people trained.
|  |  |  | Rural hectares mapped in Site Specific Activity.
|  |  |  | Rural hectares mapped in Community Land Fund Initiative.
|  |  |  | Urban parcels mapped.
|  |  |  | Rural hectares formalized through Site Specific Activity.
|  |  |  | Rural hectares formalized through Community Land Fund Initiative.
|  |  |  | Urban parcels formalized.
|  |  |  | Number of communities delimited.
|  |  |  | Number of households having land formalized, rural.
|  |  |  | Number of households having land formalized, urban.
Farmer Income Support Project | 18,276,217 | Improve coconut productivity and diversification into cash crop | 2,893,414 | Number of diseased or dead palm trees cleared. Number of coconut seedlings planted. Hectares under production.
|  |  |  | Number of farmers trained in pest and disease control.
|  |  |  | Number of farmers trained in crop diversification technologies.
|  |  |  | Income from coconuts and coconut products (estates).
|  |  |  | Income from coconuts and coconut products (households).
Program Administration* and Control, Monitoring and Evaluation | 66,213,292 |  | 12,447,947
Pending Subsequent Report** |  |  | 126,168

Projects | Obligated | Objectives | Cumulative disbursements | Measures
Country: Lesotho Year: 2010 Quarter 3 Total Obligation: $354,167,605
Entity to which the assistance is provided: MCA Lesotho Total Quarterly Disbursement: $6,566,418
Water Project | 162,365,440 | Improve the water supply for industrial and domestic needs, and enhance rural livelihoods through improved watershed management | 10,208,610 | School days lost due to waterborne diseases. Diarrhea notification at health centers. Time saved due to access to water source. Rural household (HH) provided with access to improved water supply. Rural HH provided with access to improved ventilated latrines.
|  |  |  | Rural population with knowledge of good hygiene principles.
|  |  |  | Urban HH with access to potable water supply.
|  |  |  | Number of enterprises connected to water network.
|  |  |  | Households connected to improved water network.
|  |  |  | Cubic meters of treated water from metolong dam delivered through a conveyance system to Water and Sewerage Authority (WASA).
|  |  |  | Hydrological flows variability.
|  |  |  | Reclaimed area.
Health Project | 121,523,962 | Increase access to life-extending ART and essential health services by providing a sustainable delivery platform | 7,841,121 | People with HIV still alive 12 months after initiation of treatment. TB notification (per 100,000 pop.). Percentage of PLWA receiving ARV treatment (by age and sex).
|  |  |  | Deliveries conducted in the health centers.
|  |  |  | Immunization coverage rate.
Private Sector Development Project | 35,593,055 | Stimulate investment by improving access to credit, reducing transaction costs and increasing the participation of women in the economy | 3,805,180 | Average time (days) required to enforce a contract. Value of commercial cases. Cases referred to ADR that are successfully completed. Portfolio of loans. Loan processing time. Performing loans. Electronic payments—salaries.
|  |  |  | Electronic payments—pensions.
|  |  |  | Debit/smart cards issued.
|  |  |  | Mortgage bonds registered.
|  |  |  | Value of registered mortgage bonds.
|  |  |  | Clearing time—Country.
|  |  |  | Clearing time—Maseru.
|  |  |  | Time to complete transfer of land rights.
|  |  |  | Land transactions recorded.
|  |  |  | Land parcels regularized and registered.
|  |  |  | People trained on gender equality and economic rights.
|  |  |  | ID cards issued.
|  |  |  | Monetary cost of a lease transaction.
Program Administration* and Control, Monitoring and Evaluation | 43,685,148 |  | 13,462,757
Pending Subsequent Report** |  |  | 207,297

Projects | Obligated | Objectives | Cumulative disbursements | Measures
Country: Morocco Year: 2010 Quarter 3 Total Obligation: $693,797,181
Entity to which the assistance is provided: MCA Morocco Total Quarterly Disbursement: $18,500,633
Fruit Tree Productivity Project | 298,622,393 | Reduce volatility of agricultural production and increase volume of fruit agricultural production | 20,851,833 | Number of farmers trained. Number of agribusinesses assisted. Number of hectares under production. Value of agricultural production.
Small Scale Fisheries Project | 116,168,028 | Improve quality of fish moving through domestic channels and assure the sustainable use of fishing resources | 3,381,663 | Landing sites and ports rehabilitated. Mobile fish vendors using new equipment. Fishing boats using new landing sites. Average price of fish at auction markets. Average price of fish at wholesale. Average price of fish at ports.
Artisan and Fez Medina Project | 111,873,858 | Increase value added to tourism and artisan sectors | 809,472 | Average revenue of SME pottery workshops. Construction and rehabilitation of Fez Medina Sites.
|  |  |  | Tourist receipts in Fez.
|  |  |  | Training of potters.
Enterprise Support Project | 33,850,000 | Improved survival rate of new SMEs and INDH-funded income generating activities; increased revenue for new SMEs and INDH-funded income generating activities | 3,399,422 | Number of enterprises in pilot project receiving coaching. Value added per enterprise. Survival rate after two years.
Program Administration* and Control, Monitoring and Evaluation | 87,082,902 |  | 15,148,665
Pending Subsequent Report** |  |  | 3,173,509

Projects | Obligated | Objectives | Cumulative disbursements | Measures
Country: Tanzania Year: 2010 Quarter 3 Total Obligation: $698,240,000
Entity to which the assistance is provided: MCA Tanzania Total Quarterly Disbursement: $28,800,268
Energy Sector Project | 202,934,428 | Increase value added to businesses | 5,392,310 | New power customers: Kigoma. New power customers: Morogoro.
|  |  |  | New power customers: Tanga.
|  |  |  | New power customers: Mbeya.
|  |  |  | New power customers: Iringa.
|  |  |  | New power customers: Dodoma.
|  |  |  | New power customers: Mwanza.
|  |  |  | New power customers: Zanzibar.
|  |  |  | Energy generation—Kigoma.
|  |  |  | Transmission capacity: Kigoma.
|  |  |  | Transmission capacity: Morogoro.
|  |  |  | Transmission capacity: Tanga.
|  |  |  | Transmission capacity: Mbeya.
|  |  |  | Transmission capacity: Iringa.
|  |  |  | Transmission capacity: Dodoma.
|  |  |  | Transmission capacity: Mwanza.
|  |  |  | Transmission capacity: Zanzibar.
|  |  |  | Percentage disbursed for design and supervision contract Consulting Engineer (CE) year 1 budgeted: Distribution Rehabilitation and extension activity.
|  |  |  | Percentage disbursed for design and supervision contract Consulting Engineer (CE) year 1 budgeted; Zanzibar Interconnector activity.
|  |  |  | Percentage disbursed for design and supervision contract Consulting Engineer (CE) year 1 budgeted; Malagarasi hydropower and Kigoma distribution activity.
Transport Sector Project | 366,847,428 | Increase cash crop revenue and aggregate visitor spending | 28,507,733 | International roughness index: Tunduma Sumbawanga. International roughness index: Tanga Horohoro. International roughness index: Namtumbo Songea.
|  |  |  | International roughness index: Peramiho Mbinga.
|  |  |  | Annual average daily traffic: Tunduma Sumbawanga.
|  |  |  | Annual average daily traffic: Tanga Horohoro.
|  |  |  | Annual average daily traffic: Namtumbo Songea.
|  |  |  | Annual average daily traffic: Peramiho Mbinga.
|  |  |  | Kilometers upgraded/completed: Tunduma Sumbawanga.
|  |  |  | Kilometers upgraded/completed: Tanga Horohoro.
|  |  |  | Kilometers upgraded/completed: Namtumbo Songea.
|  |  |  | Kilometers upgraded/completed: Peramiho Mbinga.
|  |  |  | Percent disbursed on construction works: Tunduma Sumbawanga.
|  |  |  | Percent disbursed on construction works: Tanga Horohoro.
|  |  |  | Percent disbursed on construction works: Namtumbo Songea.
|  |  |  | Percent disbursed on construction works: Peramiho Mbinga.
|  |  |  | Percent disbursed for feasibility and/or design studies: Tunduma Sumbawanga.
|  |  |  | Percent disbursed for feasibility and/or design studies: Tanga Horohoro.
|  |  |  | Percent disbursed for feasibility and/or design studies: Namtumbo Songea.
|  |  |  | Percent disbursed for feasibility and/or design studies: Peramiho Mbinga.
|  |  |  | International roughness index: Pemba.
|  |  |  | Average annual daily traffic: Pemba.
|  |  |  | Kilometers upgraded/completed: Pemba.
|  |  |  | Percent disbursed on construction works: Pemba.
|  |  |  | Signed contracts for construction works (Zanzibar Rural Roads).
|  |  |  | Percent disbursed on signed contracts for feasibility and/or design studies: Pemba.
|  |  |  | Passenger arrivals: Mafia Island.
|  |  |  | Percentage of upgrade complete: Mafia Island.
|  |  |  | Percent disbursed on construction works: Mafia Island.
Water Sector Project | 62,562,144 | Increase investment in human and physical capital and to reduce the prevalence of water-related disease | 1,993,722 | Number of households using improved source for drinking water (Dar es Salaam). Number of households using improved source for drinking water (Morogoro). Number of businesses using improved water source (Dar es Salaam).
|  |  |  | Number of businesses using improved water source (Morogoro).
|  |  |  | Volume of water produced (Lower Ruvu).
|  |  |  | Volume of water produced (Morogoro).
|  |  |  | Percent disbursed on Feasibility Design Update contract Lower Ruvu Plant Expansion.
Program Administration* and Control, Monitoring and Evaluation | 53,896,000 |  | 7,339,868
Pending Subsequent Report** |  |  | 206,197

Projects | Obligated | Objectives | Cumulative disbursements | Measures
Country: Burkina Faso Year: 2010 Quarter 3 Total Obligation: $484,298,973
Entity to which the assistance is provided: MCA Burkina Faso Total Quarterly Disbursement: $5,552,469
Roads Project | 194,130,681 | Enhance access to markets through investments in the road network | 404,332 | To Be Determined (TBD).
Rural Land Governance Project | 60,392,771 | Increase investment in land and rural productivity through improved land tenure security and land management | 2,185,845 | TBD.
Agriculture Development Project | 141,934,693 | Expand the productive use of land in order to increase the volume and value of agricultural production in project zones | 2,775,002 | TBD.
Bright 2 Schools Project | 26,829,669 | Increase primary school completion rates | 28,745,770 | TBD.
Program Administration* and Control, Monitoring and Evaluation | 61,011,159 |  | 9,686,605
Pending Subsequent Report** |  |  | 0

Projects | Obligated | Objectives | Cumulative disbursements | Measures
Country: Namibia Year: 2010 Quarter 3 Total Obligation: $304,477,819
Entity to which the assistance is provided: MCA Namibia Total Quarterly Disbursement: $9,977,192
Education Project | 144,976,559 | Improve the education sector's effectiveness, efficiency and quality | 6,836,450 | To Be Determined (TBD).
Tourism Project | 66,959,292 | Increase incomes and create employment opportunities by improving the marketing, management and infrastructure of Etosha National Park | 2,207,959 | TBD.
Agriculture Project | 47,550,008 | Sustainably improve the economic performance and profitability of the livestock sector and increase the volume of the indigenous natural products for export | 405,044 | TBD.
Program Administration* and Control, Monitoring and Evaluation | 44,991,960 |  | 6,708,661
Pending Subsequent Report** |  |  | 113,820

Projects | Obligated | Objectives | Cumulative disbursements | Measures
Country: Moldova (PRE-EIF) Year: 2010 Quarter 3 Total Obligation: $262,000,000
Entity to which the assistance is provided: MCA Moldova Total Quarterly Disbursement: $0
Road Rehabilitation Project | 132,840,000 |  | 0 | To Be Determined (TBD).
Transition to High Value Agriculture Project | 101,773,401 |  | 0 | TBD.
Program Administration* and Monitoring and Evaluation** | 27,386,599 |  | 0 | TBD.

Projects | Obligated | Objectives | Cumulative disbursements | Measures
Country: Senegal (PRE-EIF) Year: 2010 Quarter 3 Total Obligation: $540,000,000
Entity to which the assistance is provided: MCA Moldova Total Quarterly Disbursement: $100,165
Road Rehabilitation Project | 800,000 |  | 0 | To Be Determined (TBD).
Transition to High Value Agriculture Project | 6,788,251 |  | 0 | TBD.
Program Administration* and Monitoring and Evaluation** | 382,691 |  | 0 | TBD.
* Program administration funds are used to pay items such as salaries, rent, and the cost of office equipment.
** These amounts represent disbursements made that will be allocated to individual projects in the subsequent quarter(s) and reported as such in subsequent quarterly report(s)
*** Moldova and Senegal are expected to be obligated in 2010 when they enter into force (EIF).

619(b) Transfer or Allocation of Funds: U.S. Agency to which Funds were Transferred or Allocated | 619(b) Transfer or Allocation of Funds: Amount | 619(b) Transfer or Allocation of Funds: Description of program or project
USAID | $15,073,050 | Liberia Threshold Program.

Dated: September 10, 2010.
T. Charles Cooper,
Vice President, Congressional and Public Affairs, Millennium Challenge Corporation.

[FR Doc. 2010-23064 Filed 9-15-10; 8:45 am]

BILLING CODE 9211-03-P